DEPARTMENT OF COMMERCE

International Trade Administration

(A-580-836)

Certain Cut-to-Length Carbon-Quality Steel Plate Products From the Republic of Korea: Preliminary Results and Rescission in Part of Antidumping Duty Administrative Review

AGENCY: Import Administration, International Trade Administration, Department ofCommerce.

SUMMARY: In response to requests by a producer/exporter of the subject merchandise and a domestic interested party, the Department of Commerce (the Department) is conducting an administrative review of the antidumping duty order on certain cut-to-length carbon-quality steel plate products (steel plate) from the Republic of Korea (Korea). This review covers one producer/exporter of the subject merchandise. The period of review (POR) is February 1, 2004, through January 31, 2005.

The Department has preliminarily determined that the company subject to this review made U.S. sales at prices less than normal value (NV). If these preliminary results are adopted in our final results of administrative review, we will instruct U.S. Customs and Border Protection (CBP) to assess antidumping duties on all appropriate entries. Interested parties are invited to comment on these preliminary results of review. We will issue the final results of review no later than 120 days from the publication date of this notice.

EFFECTIVE DATE: November 7, 2005.

FOR FURTHER INFORMATION CONTACT: Magd Zalok or Malcolm Burke, AD/CVD Operations, Office 4, Import Administration, International Trade Administration, U.S. Department of Commerce, 14th Street and Constitution Avenue, NW, Washington, DC 20230, telephone: (202) 482-4162 or (202) 482-3584, respectively.

SUPPLEMENTARY INFORMATION:

Background

On February 1, 2005, the Department published in the Federal Register a notice of “Opportunity to Request Administrative Review” of the antidumping duty order on steel plate from Korea. See Antidumping or Countervailing Duty Order, Finding, or Suspended Investigation; Opportunity To Request Administrative Review, 70 FR 5136 (February 1, 2005). In accordance with 19 CFR § 351.213(b)(2), during February 2005, Dongkuk Steel Mill Co., Ltd. (DSM), a producer/exporter, requested that the Department conduct an administrative review of its sales and entries of subject merchandise into the United Stated during the POR. Additionally, in accordance with 19 CFR § 351.213(b)(1), on February 28, 2005, a domestic interested party, Nucor Corporation (Nucor), requested that the Department conduct a review of DSM; Korea Iron & Steel Co., Ltd. (KISCO); and Union Steel Manufacturing Co. (USMC). On March 23, 2005, the Department initiated an administrative review of DSM, KISCO, and USMC. See Initiation of Antidumping and Countervailing Duty Administrative Reviews and Requests for Revocation in Part, 70 FR 14643 (March 23, 2005).

On March 9, 2005, the Department issued its antidumping questionnaire to DSM, KISCO, and USMC. On April 15, 2005, USMC informed the Department that it had no sales or shipments of the subject merchandise during the POR. On May 3, 2005, KISCO informed the Department that it had no sales or shipments of the subject merchandise during the POR. In April and May 2005, DSM responded to the Department's antidumping questionnaire. Subsequently, the Department issued supplemental questionnaires to DSM. During this administrative review, Nucor and one of the petitioners in this proceeding, IPSCO Steel Inc., submitted comments regarding the respondent's questionnaire and supplemental questionnaire responses.

The Department is conducting this administrative review in accordance with section 751 of the Tariff Act of 1930, as amended (the Act).

Period of Review

The POR is February 1, 2004, through January 31, 2005.

Scope of the Order

The products covered by the antidumping duty order are certain hot-rolled carbon-quality steel: (1) Universal mill plates (i.e., flat-rolled products rolled on four faces or in a closed box pass, of a width exceeding 150 mm but not exceeding 1250 mm, and of a nominal or actual thickness of not less than 4 mm, which are cut-to-length (not in coils) and without patterns in relief), of iron or non-alloy-quality steel; and (2) flat-rolled products, hot-rolled, of a nominal or actual thickness of 4.75 mm or more and of a width which exceeds 150 mm and measures at least twice the thickness, and which are cut-to-length (not in coils). Steel products to be included in the scope of the order are of rectangular, square, circular or other shape and of rectangular or non-rectangular cross-section where such non-rectangular cross-section is achieved subsequent to the rolling process (i.e., products which have been “worked after rolling”) - for example, products which have been beveled or rounded at the edges. Steel products that meet the noted physical characteristics that are painted, varnished or coated with plastic or other non-metallic substances are included within this scope. Also, specifically included in the scope of the order are high strength, low alloy (HSLA) steels. HSLA steels are recognized as steels with micro-alloying levels of elements such as chromium, copper, niobium, titanium, vanadium, and molybdenum. Steel products to be included in this scope, regardless of Harmonized Tariff Schedule of the United States (HTSUS) definitions, are products in which: (1) Iron predominates, by weight, over each of the other contained elements, (2) the carbon content is two percent or less, by weight, and (3) none of the elements listed below is equal to or exceeds the quantity, by weight, respectively indicated: 1.80 percent of manganese, or 1.50 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.41 percent of titanium, or 0.15 percent of vanadium, or 0.15 percent zirconium. All products that meet the written physical description, and in which the chemistry quantities do not equal or exceed any one of the levels listed above, are within the scope of the order unless otherwise specifically excluded. The following products are specifically excluded from the order: (1) Products clad, plated, or coated with metal, whether or not painted, varnished or coated with plastic or other non-metallic substances; (2) SAE grades (formerly AISI grades) of series 2300 and above; (3) products made to ASTM A710 and A736 or their proprietary equivalents; (4) abrasion-resistant steels (i.e., USS AR 400, USS AR 500); (5) products made to ASTM A202, A225, A514 grade S, A517 grade S, or their proprietary equivalents; (6) ball bearing steels; (7) tool steels; and (8) silicon manganese steel or silicon electric steel. Imports of steel plate are currently classified in the HTSUS under subheadings: 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000, 7225.40.3050, 7225.40.7000, 7225.50.6000, 7225.99.0090, 7226.91.5000, 7226.91.7000, 7226.91.8000, 7226.99.0000. The HTSUS subheadings are provided for convenience and CBP purposes. The written description of the merchandise covered by the order is dispositive.

Partial Rescission of Review

As noted above, USMC and KISCO informed the Department that they had no shipments of subject merchandise to the United States during the POR. CBP data indicates that there were no entries of subject merchandise from USMC or KISCO during the POR. See the September 30, 2005, memorandum, Factual Information Regarding Lack of Entries of Subject Merchandise Produced by USMC and KISCO to the File from the Team, which is available in the Central Records Unit (CRU) room B099 in the main Department building. No parties have submitted any information that calls into question the no shipment claims of USMC and KISCO. Therefore, in accordance with 19 CFR § 351.213(d)(3), and consistent with the Department's practice, we are rescinding this review with respect to USMC and KISCO. See, e.g., Certain Steel Concrete Reinforcing Bars From Turkey; Final Results, Rescission of Antidumping Duty Administrative Review in Part, and Determination Not To Revoke in Part, 68 FR 53127, 53128 (September 9, 2003).

Duty Absorption

On March 28, 2005, Nucor requested that the Department make a duty absorption determination with respect to each respondent. Section 751(a)(4) of the Act provides that the Department, if requested, shall determine during an administrative review initiated two or four years after the publication of the order, “whether antidumping duties have been absorbed by a foreign producer or exporter. . . if the subject merchandise is sold in the United States” through an affiliated importer. Because the order on steel plate from Korea was published on February 10, 2000, and this review was initiated five years thereafter (on March 23, 2005), this review was not initiated two or four years after the publication of the order. Therefore, pursuant to section 751(a)(4) of the Act, the Department will not make a duty absorption determination in this review.

Affiliation

During the POR, DSM sold steel plate to Dongkuk Industries Co., Ltd. (DKI ), a Korean trading company, which, in turn, resold the steel plate to unaffiliated parties in third country markets. Additionally, DSM reported that DKI formed a home market subsidiary to which it sold steel plate during the instant POR. The Department has preliminarily determined that DSM and DKI are under the common control of a family grouping, and thus, are affiliated pursuant to section 771(33)(F) of the Act (which states that two or more persons directly or indirectly controlling, controlled by, or under common control with, any person shall be considered affiliates). Therefore, in these preliminary results, the Department has treated DSM and DKI as affiliated parties. In addition, because the family grouping noted above is also in a position to legally and operationally control DKI's subsidiary, in these preliminary results the Department has considered the subsidiary and DSM to be affiliated parties. For a complete discussion of this issue see the Memorandum from Malcolm Burke to the File, dated concurrently with this notice.

Overrun Sales

DSM reported home market sales of “overrun” merchandise (i.e., sales of a greater quantity of steel plate than the customer ordered due to overproduction). Section 773(a)(1)(B) of the Act provides that NV shall be based on the price at which the foreign like product is first sold, inter alia, in the ordinary course of trade. Section 771(15) of the Act defines “ordinary course of trade” as the “conditions and practices which, for a reasonable time prior to the exportation of the subject merchandise, have been normal in the trade under consideration with respect to merchandise of the same class or kind.” In past cases, the Department has examined certain factors to determine whether “overrun” sales are in the ordinary course of trade. See, e.g. Certain Steel Products from Brazil, 64 FR 38756, 38770 (July 19, 1999). These factors include: (1) whether the merchandise is “off-quality” or produced according to unusual specifications; (2) the comparative volume of sales and the number of buyers in the home market; (3) the average quantity of an overrun sale compared to the average quantity of a commercial sale; and (4) price and profit differentials in the home market. Based on our analysis of these factors and the terms of sale, we preliminarily determine that DSM's overrun sales have characteristics that are not ordinary as compared to DSM's other home market sales of steel plate. Therefore, we preliminarily determine that DSM's overrun sales are outside the ordinary course of trade. Because our analysis makes use of business proprietary information, we have included the analysis in a separate memorandum. See Memorandum to the File from the Team concerning Overrun Sales Analysis: Dongkuk Steel Mill Co., Ltd., dated concurrently with this notice.

Comparison Methodology

In order to determine whether DSM sold steel plate in the United States at prices less than NV, the Department compared the constructed export price (CEP) of individual U.S. sales to the monthly weighted-average NV of sales of the foreign like product made in the ordinary course of trade. See section 777A(d)(2) of the Act; see also section 773(a)(1)(B)(i) of the Act. In accordance with section 771(16) of the Act, the Department considered all products within the scope of the order under review that the respondent sold in the comparison market during the POR to be foreign like products for purposes of determining appropriate product comparisons to steel plate sold in the United States. The Department compared U.S. sales to sales made in the comparison market within the contemporaneous window period, which extends from three months prior to, to two months after, the month in which the U.S. sale is made. Where there were no sales of identical merchandise made in the comparison market in the ordinary course of trade, the Department compared U.S. sales to sales of the most similar foreign like product made in the ordinary course of trade. In making product comparisons, the Department selected identical and most similar foreign like products based on the physical characteristics reported by DSM in the following order of importance: painted, quality, specification, heat treatments, thickness, width, patterns in relief, and descaling.

Constructed Export Price

The Department based the price of each of DSM's U.S. sales of subject merchandise on CEP, as defined in section 772(b) of the Act, because the merchandise was sold, before importation, by a seller affiliated with the producer, to unaffiliated purchasers in the United States. We calculated CEP using delivered prices charged to unaffiliated customers in the United States. In accordance with sections 772(c)(2)(A) and 772(d) of the Act, in calculating CEP, we made deductions from the starting price for foreign and U.S. brokerage and handling, foreign and U.S. inland freight, international freight, marine insurance, U.S. duties, direct and indirect selling expenses, to the extent they are associated with economic activity in the United States, and CEP profit. The direct selling expenses included credit expenses and commission expenses. Finally, pursuant to section 772(c)(1)(C) of the Act, we increased U.S. price by the amount of the export subsidy found in the countervailing duty investigation on steel plate from Korea.¹

¹ See Notice of Amended Final Determinations: Certain Cut-to-Length Carbon-Quality Steel Plate From India and the Republic of Korea; and Notice of Countervailing Duty Orders: Certain Cut-to-Length Carbon-Quality Steel Plate Products From France, India, Indonesia, Italy, Japan and the Republic of Korea, 65 FR 6587 (February 10, 2000).

Normal Value

After testing home market viability, whether home market sales to affiliates were at arm's length prices, and whether home market sales were at below-cost prices, we calculated NV for DSM as noted in the “Price-to-Price Comparisons” section of this notice.

A. Home Market Viability

In accordance with section 773(a)(1)(C) of the Act, in order to determine whether there was a sufficient volume of sales in the home market to serve as a viable basis for calculating NV, we compared the aggregate volume of DSM's home market sales of the foreign like product to the aggregate volume of its U.S. sales of subject merchandise. Because the aggregate volume of DSM's home market sales of foreign like product exceeds five percent of the aggregate volume of its U.S. sales of subject merchandise, we based NV on sales of the foreign like product in DSM's home market. See section 773(a)(1)(C) of the Act.

B. Affiliated-Party Transactions and Arm's-Length Test

DSM reported that it made home market sales to affiliated and unaffiliated end users and distributors/retailers. The Department may calculate NV based on sales to an affiliated party only if it is satisfied that the prices charged to the affiliated party are comparable to the prices at which sales were made to parties not affiliated with the producer, i.e., sales at arm's-length. See section 773(f)(2) of the Act and 19 CFR § 351.403(c). Where we found the home market prices charged to an affiliated customer not to be arm's-length prices, we excluded sales to the affiliated customer from our analysis. To test whether DSM's sales to affiliates were made at arm's-length prices, the Department compared the starting prices of sales to affiliated and unaffiliated customers, net of all movement charges, direct selling expenses, and packing costs. Pursuant to 19 CFR § 351.403(c), and in accordance with the Department's practice, when the prices charged to affiliated parties were, on average, between 98 and 102 percent of the prices charged to unaffiliated parties for merchandise comparable to that sold to the affiliated party, we determine that the sales to the affiliated party were at arm's-length prices. See Antidumping Proceedings: Affiliated Party Sales in the Ordinary Course of Trade, 67 FR 69186 (November 15, 2002). DSM's affiliated home market customers did not pass the arm's-length test. Therefore, we have excluded these sales from our analysis.

C. Cost of Production (COP) Analysis

In the most recently completed administrative review, the Department determined that DSM sold foreign like product at prices below the cost of producing the merchandise and excluded such sales from the calculation of NV. As a result, the Department determined that there are reasonable grounds to believe or suspect that during the instant POR, DSM sold the foreign like product at prices below the cost of producing the merchandise. See section 773(b)(2)(A)(ii) of the Act. Therefore, the Department initiated a sales below cost inquiry with respect to DSM.

1. Calculation of COP

In accordance with section 773(b)(3) of the Act, for each unique foreign like product sold by DSM during the POR, we calculated a weighted-average COP based on the sum of the respondent's materials and fabrication costs and selling, general and administrative (SG&A) expenses, including interest expenses, and packing costs. We relied on the costs submitted by DSM except for the following items, which we revised based upon our review of DSM's questionnaire responses: ceratin inputs purchased from affiliates and interest expense. For details regarding these revisions, see the memorandum regarding cost of production adjustments for the preliminary results, dated concurrently with this notice.

2. Test of Home Market Sales Prices

In order to determine whether sales were made at prices below the COP, on a product-specific basis, we compared DSM's weighted-average COPs, adjusted as noted above, to the prices of its home market sales of foreign like product, as required under section 773(b) of the Act. In accordance with sections 773(b)(1)(A) and (B), respectively, of the Act, in determining whether to disregard home market sales made at prices less than the COP, we examined whether such sales were made: (1) in substantial quantities within an extended period of time; and (2) at prices which permitted the recovery of all costs within a reasonable period of time. We compared the COP to home market sales prices, less applicable discounts or rebates, selling expenses, and movement charges.

3. Results of the COP Test

Pursuant to section 773(b)(2)(C) of the Act, where less than 20 percent of a respondent's sales of a given product were made at prices less than the COP, we did not disregard any below-cost sales of that product because the below-cost sales were not made in “substantial quantities.” Where 20 percent or more of a respondent's sales of a given product were made at prices less than the COP during the POR, we determined such sales to have been made in “substantial quantities” within an extended period of time (i.e., one year) pursuant to sections 773(b)(2)(C) and (B) of the Act. Based on our comparison of POR average costs to reported prices, we also determined, in accordance with section 773(b)(2)(D) of the Act, that certain sales were made at prices which would not permit recovery of all costs within a reasonable period of time. As a result, we disregarded such below-cost sales.

Price-to-Price Comparisons

We calculated NVs for DSM based on the prices at which the foreign like product was first sold for consumption in the home market, in the usual commercial quantities, in the ordinary course of trade, and, to the extent possible, at the same level of trade (LOT) as the comparison U.S. sale. See section 773(a)(1)(B) of the Act. In calculating NVs, where appropriate, we increased the reported home market sales prices by the interest and duty drawback revenue that DSM received from its customers and decreased the prices by movement expenses incurred by DSM. In addition, we adjusted the reported home market sales prices to: (1) account for differences between packing costs and credit and other direct selling expenses incurred with respect to transactions in the U.S. and home markets; (2) account for differences between the physical characteristics of the merchandise sold in comparable transactions in the U.S. and home markets; and, (3) to make a reasonable allowance for other selling expenses where commissions were paid in only one of the markets being compared. See section 773 (a)(6) of the Act and 19 CFR § 351.410 (e).

Level of Trade

To determine whether NV sales are at a different LOT than the CEP sales,² we examine stages in the marketing process and selling functions along the chain of distribution between the producer and the unaffiliated customer. See section 773(a)(7)(A) of the Act. If the home market sales are at a different LOT, and the difference affects price comparability, as manifested by a pattern of consistent price differences between the sales on which NV is based and home market sales at the LOT of the export transaction, we make a LOT adjustment under section 773(a)(7)(A) of the Act. In determining whether separate LOTs exist, we obtained information from DSM regarding the marketing stages for the reported U.S. and home market sales, including a description of the selling activities performed by DSM for each channel of distribution. Generally, if the reported LOTs are the same, the functions and activities of the seller at each level should be similar. Conversely, if a party reports that LOTs are different for different groups of sales, the selling functions and activities of the seller for each group should be dissimilar. See 19 CFR § 351.412(c)(2). For CEP sales, if the NV LOT is more remote from the factory than the CEP LOT and there is no basis for determining whether the difference in the levels between NV and CEP affects price comparability, we adjust NV under section 773(A)(7)(B) of the Act (the CEP offset provision). See Notice of Final Determination of Sales at Less Than Fair Value: Certain Cut-to-Length Carbon Steel Plate from South Africa, 62 FR 61731 (November 19, 1997).

² The NV LOT is based on selling activities reflected in the starting-price of the sales in the comparison market. For CEP sales, the U.S. LOT is based on the selling activities reflected in the price after deducting expenses and profit under section 772(d) of the Act.

DSM reported that it sold the merchandise under review to distributors and end users in the home market through one channel of distribution, and to distributors in the United States through another channel of distribution. See DSM's April 29, 2005, and May 6, 2005, questionnaire responses at 13-14 and 11-12, respectively. In the home market channel of distribution, DSM engaged in the same selling activities for all sales. Likewise, in the U.S. channel of distribution, DSM engaged in the same selling activities for all sales. Because the single sales channel in the United States involves the same selling functions for all sales, and the single sales channel in the home market also involves the same selling functions for all sales, we have preliminarily determined that there is one LOT in the United States and one LOT in the home market. Moreover, because the selling functions and activities performed by DSM with respect to its home market sales were significantly dissimilar from those performed for its U.S. sales, we have preliminarily determined that, during the POR, DSM sold foreign like product at a different LOT than it sold subject merchandise. However, because no appropriate basis exists to determine whether the difference between the U.S. and home market LOTs affects price comparability,³ we did not make a level of trade adjustment. Nevertheless, we considered whether home market sales were at a more advanced LOT than the CEP sales, thus warranting a CEP offset under section 773(a)(7)(B) of the Act. In order to determine whether NV is at a more advanced LOT than the CEP transactions, the Department compared home market selling activities with those for CEP transactions after deducting the expenses identified in section 772(d) of the Act. After making these deductions, the Department determined that the differences between the home and U.S. market selling activities support a finding that DSM's sales in the home market were at a more advanced LOT than the CEP sales. See Memorandum from Malcolm Burke to the File, concerning Level of Trade and CEP Offset Analysis, dated concurrently with this notice. Thus, in calculating NV, we reduced DSM's home market sales prices in accordance with the CEP offset provision.

³ There is only one LOT in the home market and no other information which would allow the Department to examine DSM's pricing patterns with respect to product lines that are different from, or broader than, the steel plate product line.

Currency Conversion

Pursuant to section 773A(a) of the Act, we converted amounts expressed in foreign currencies into U.S. dollar amounts based on the exchange rates in effect on the dates of the relevant U.S. sales, as certified by the Federal Reserve Bank.

Preliminary Results of Review

As a result of this review, we preliminarily determine that the following weighted- average dumping margin exists for the period February 1, 2004, through January 31, 2005:

Manufacturer/Exporter | Margin (percent)
Dongkuk Steel Mill Co., Ltd. | 0.51

Public Comment

Within 10 days of publicly announcing the preliminary results of this review, we will disclose, to interested parties, any calculations performed in connection with the preliminary results. See 19 CFR § 351.224(b). Any interested party may request a hearing within 30 days of the publication of this notice in the Federal Register. See 19 CFR § 351.310(c). If requested, a hearing will be held 44 days after the date of publication of this notice in the Federal Register, or the first workday thereafter. Interested parties are invited to comment on the preliminary results of this review. The Department will consider case briefs filed by interested parties within 30 days after the date of publication of this notice in the Federal Register. Also, interested parties may file rebuttal briefs, limited to issues raised in the case briefs. The Department will consider rebuttal briefs filed not later than five days after the time limit for filing case briefs. Parties who submit arguments are requested to submit with each argument: (1) a statement of the issue; (2) a brief summary of the argument; and, (3) a table of authorities cited. Further, the Department requests that parties submitting written comments provide the Department with a diskette containing the public version of those comments. Unless the deadline for issuing the final results of review is extended, the Department will issue the final results of this administrative review, including the results of its analysis of issues raised in the written comments, within 120 days of publication of this notice in the Federal Register.

Assessment Rates

In accordance with 19 CFR § 351.212(b)(1), in these preliminary results of review we calculated importer-specific assessment rates for DSM's subject merchandise. Within 15 days of publication of the final results of review, the Department will issue instructions to CBP directing it to assess the final importer-specific assessment rates (if above de minimis) uniformly on the entered value of all entries of subject merchandise made by the relevant importer during the POR.

Cash Deposit Requirements

The following cash deposit requirements will be effective for all shipments of the subject merchandise entered, or withdrawn from warehouse, for consumption on or after the publication date of the final results of this administrative review, as provided by section 751(a)(1) of the Act. In the instant matter: (1) the cash deposit rate for the reviewed company will be the rate established in the final results of this review (except that if that rate is de minimis, i.e., less than 0.5 percent, no cash deposit will be required); (2) for previously investigated or reviewed companies not listed above, the cash deposit rate will continue to be the company-specific rate published for the most recent period; (3) if the exporter is not a firm covered in this review, a prior review, or the less-than-fair-value (LTFV) investigation, but the manufacturer is, the cash deposit rate will be the rate established for the most recent period for the manufacturer of the subject merchandise; and (4) the cash deposit rate for all other manufacturers or exporters will continue to be the “all others” rate of 0.98 percent, which is the “all others” rate established in the LTFV investigation, adjusted for the export subsidy rate in the companion countervailing duty investigation. These cash deposit rates, when imposed, shall remain in effect until publication of the final results of the next administrative review. See section 751(a)(2)(C) of the Act.

Notification to Importers

This notice also serves as a preliminary reminder to importers of their responsibility under 19 CFR § 351.402(f)(2) to file a certificate regarding the reimbursement of antidumping duties prior to liquidation of the relevant entries during this review period. Failure to comply with this requirement could result in the Secretary's presumption that reimbursement of the antidumping duties occurred and the concomitant assessment of double antidumping duties.

We are issuing and publishing this notice in accordance with sections 751(a)(1) and 777(i)(1) of the Act.

Dated: October 31, 2005.
Joseph A. Spetrini,
Acting Assistant Secretaryfor Import Administration.

[FR Doc. 05-22137 Filed 11-4-05; 8:45 am]

BILLING CODE 3510-DS-S